DEPARTMENT OF ENERGY

Federal Energy Regulatory Commission

[Project No. 2275-050]

Public Service Company of Colorado; Notice of Availability of Environmental Assessment

In accordance with the National Environmental Policy Act of 1969 and the Federal Energy Regulatory Commission's (Commission or FERC) regulations, 18 CFR part 380, Commission staff reviewed the Public Service Company of Colorado's application for an amendment to the license of the Salida Hydroelectric Project No. 2275 and have prepared an Environmental Assessment (EA) for the proposed amendment. The Salida Project consists of two developments, Salida No. 1 and Salida No. 2. The licensee has determined that the Salida No. 1 development is no longer economical. The licensee proposes to amend the existing license for the project to decommission the Salida No. 1 development by removing the Garfield and Fooses dams and reservoirs, pipeline, penstock, powerhouse, and substation. The Salida Project is located on the South Arkansas River and Fooses Creek, approximately 6 miles west of the town of Poncha Springs in Chaffee County, Colorado. The project partially occupies federal land managed by the U.S. Forest Service within the Pike-San Isabel National Forests.

The EA contains Commission staff's analysis of the potential environmental effects of the proposed amendment to the license, and concludes that the proposed amendment, with appropriate environmental protective measures, would not constitute a major federal action that would significantly affect the quality of the human environment.

The EA may be viewed on the Commission's website at http://www.ferc.gov using the “elibrary” link. Enter the docket number (P-2275) in the docket number field to access the document. For assistance, contact FERC Online Support at FERCOnlineSupport@ferc.gov or toll-free at 1-866-208-3676, or for TTY, (202) 502-8659.

You may also register online at http://www.ferc.gov/docs-filing/esubscription.asp to be notified via email of new filings and issuances related to this or other pending projects. For assistance, contact FERC Online Support.

All comments must be filed by August 14, 2023.

The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-2275-050.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

For further information, contact Rebecca Martin at 202-502-6012 or Rebecca.Martin@ferc.gov.

Dated: July 14, 2023.
Debbie-Anne A. Reese,
Deputy Secretary.

[FR Doc. 2023-15426 Filed 7-19-23; 8:45 am]

BILLING CODE 6717-01-P